DEPARTMENT OF HEALTH AND HUMAN SERVICES

Centers for Medicare & Medicaid Services

[Document Identifiers: CMS-10525 and CMS-10866]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by November 7, 2023.

ADDRESSES: When commenting, please reference the document identifier or OMB control number. To be assured consideration, comments and recommendations must be submitted in any one of the following ways:

1. Electronically. You may send your comments electronically to https://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10525 Programs of All-Inclusive Care for the Elderly (PACE) PACE Quality Data Monitoring and Reporting

CMS-10866 CMS Health Equity Award—Call for Nominations

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Extension of a currently approved collection; Title of Information Collection: Programs of All-Inclusive Care for the Elderly (PACE) PACE Quality Data Monitoring and Reporting; Use: The Programs of All-Inclusive Care for the Elderly (PACE) program is a unique model of managed care service delivery for the frail elderly, most of whom are dually-eligible for Medicare and Medicaid benefits. To be eligible to enroll in PACE, an individual must: be 55 or older, live in the service area of a PACE organization (PO), need a nursing home-level of care (as certified by the state in which he or she lives), and be able to live safely in the community with assistance from PACE.

PACE organizations are responsible for providing all required Medicare and Medicaid covered services, and any other service that the interdisciplinary team (IDT) determines necessary to improve and maintain a participant's overall health condition (42 CFR 460.92). POs must also comply with the quality monitoring and reporting requirements outlined in §§ 460.140, 460.200(b)(1), 460.200(c) and 460.202. POs are also required to report certain unusual incidents to other Federal and State agencies consistent with applicable statutory or regulatory requirements (see 42 CFR 460.136(a)(5)). Form Number: CMS-10525 (OMB control number: 0938-1264); Frequency: Occasion; Affected Public: Business or other for-profits, Not-for-profits institutions; Number of Respondents: 152; Total Annual Responses: 1,279; Total Annual Hours: 1471. (For policy questions regarding this collection contact Donna Williamson at 410 786 4647.)

2. Type of Information Collection Request: New collection (Request for a new OMB control number); Title of Information Collection: Monoclonal Antibodies Directed Against Amyloid for the Treatment of Alzheimer's Disease; Use: CMS Office of Minority Health (OMH) is going to announce a call for nominations for the 2024 CMS Health Equity Award. This award will recognize organizations who demonstrate they have advanced health equity by designing, implementing, and operationalizing policies and programs that support health for all the people served by our programs, reducing avoidable differences in health outcomes experienced by people who are underserved, and provided the care and support that CMS enrollees need to thrive.

The goals of the award are to encourage organizations to identify and address their health disparities, to disseminate best practices, and to show that progress is possible by having a results-oriented focus. By identifying organizations who are successfully closing gaps and reducing disparities, CMS can show our stakeholders how health equity work can be initiated, targeted, measured, and successfully reduce disparities among communities nationwide.

CMS Representatives collect Company Name, Point of Contact Information (email, phone# & name) along with information from the organizations regarding their programs to improve the health quality, outcomes, and access to care for the communities that they serve. The CMS selection committee uses a scoring rubric to score the applicants on demonstrated measurable results in reducing a disparity in one or more of the CMS priority populations. Form Number: CMS-10866 (OMB control number: 0938-NEW); Frequency: Annually; Affected Public: Federal Government, Business or other for-profits and Not-for-profit institutions; Number of Respondents: 50; Number of Responses: 50; Total Annual Hours: 100. (For policy questions regarding this collection, contact Ashley Peddicord-Austin at 410-786-0757.)

Dated: September 1, 2023.
William N. Parham, III,
Director, Paperwork Reduction Staff, Office of Strategic Operations and Regulatory Affairs.

[FR Doc. 2023-19359 Filed 9-7-23; 8:45 am]

BILLING CODE 4120-01-P